DEPARTMENT OF ENERGY

Office of Science; Notice of Renewal of the DOE/NSF Nuclear Science Advisory Committee

Pursuant to Section 14(a)(2)(A) of the Federal Advisory Committee Act and in accordance with Title 41of the Code of Federal Regulations, Section 102-3.65, and following consultation with the Committee Management Secretariat, General Services Administration, notice is hereby given that the DOE/NSF Nuclear Science Advisory Committee has been renewed for a two-year period, beginning October 1, 2005.

The Committee will provide advice to the Associate Director of the Office of Science for Nuclear Physics (DOE), and the Assistant Director, Directorate for Mathematical and Physical Sciences (NSF), on scientific priorities within the field of basic nuclear science research. The Secretary of Energy has determined that renewal of the Committee is essential to conduct business of the Department of Energy and the National Science Foundation and is in the public interest in connection with the performance of duties imposed by law upon the Department of Energy. The Committee will continue to operate in accordance with the provisions of the Federal Advisory Committee Act, the Department of Energy Organization Act (Pub. L. 95-91), and implementing regulations.

FOR FURTHER INFORMATION CONTACT: Ms. Rachel Samuel at (202) 586-3279.

Issued in Washington, DC, on October 1, 2005.
James N. Solit,
Advisory Committee Management Officer.

[FR Doc. 05-20256 Filed 10-6-05; 8:45 am]

BILLING CODE 6450-01-P